DEPARTMENT OF ENERGY

Federal Energy Regulatory Commission

Combined Notice of Filings #1

Take notice that the Commission received the following electric rate filings:

Docket Numbers: ER12-1660-001.

Applicants: Tuscola Bay Wind, LLC.

Description: Amendment to Tuscola Bay Wind, LLC MBR Tariff to be effective 6/29/2012.

Filed Date: 5/8/12.

Accession Number: 20120508-5121.

Comments Due: 5 p.m. ET 5/29/12.

Docket Numbers: ER12-1713-001.

Applicants: Southwest Power Pool, Inc.

Description: Amendment to 2415 Kansas Municipal Energy Agency NITSA NOA to be effective 4/1/2012.

Filed Date: 5/9/12.

Accession Number: 20120509-5099.

Comments Due: 5 p.m. ET 5/30/12.

Docket Numbers: ER12-1744-000.

Applicants: Dennis Energy Company.

Description: Cancellation of Tariff to be effective 5/8/2012.

Filed Date: 5/8/12.

Accession Number: 20120508-5125.

Comments Due: 5 p.m. ET 5/29/12.

Docket Numbers: ER12-1745-000.

Applicants: Copper Mountain Solar 2, LLC.

Description: Copper Mountain Solar 2 LLC Concurrence to Joint Use Agreement to be effective 5/8/2012.

Filed Date: 5/8/12.

Accession Number: 20120508-5136.

Comments Due: 5 p.m. ET 5/29/12.

Docket Numbers: ER12-1746-000.

Applicants: PJM Interconnection, L.L.C.

Description: Original Service Agreement No. 3281; Queue No. W3-101 to be effective 4/11/2012.

Filed Date: 5/9/12

Accession Number: 20120509-5034.

Comments Due: 5 p.m. ET 5/30/12.

Docket Numbers: ER12-1747-000.

Applicants: PJM Interconnection, L.L.C.

Description: Original Service Agreement No. 3286; Queue No. X3-001 to be effective 4/13/2012.

Filed Date: 5/9/12.

Accession Number: 20120509-5035.

Comments Due: 5 p.m. ET 5/30/12.

Docket Numbers: ER12-1748-000.

Applicants: Midwest Independent Transmission System Operator, Inc.

Description: G587 GIA to be effective 5/10/2012.

Filed Date: 5/9/12

Accession Number: 20120509-5057.

Comments Due: 5 p.m. ET 5/30/12.

Docket Numbers: ER12-1749-000.

Applicants: International Transmission Company.

Description: Notice of Succession to be effective 7/11/2012.

Filed Date: 5/9/12.

Accession Number: 20120509-5059.

Comments Due: 5 p.m. ET 5/30/12.

Docket Numbers: ER12-1750-000.

Applicants: Delmarva Power & Light Company.

Description: Construction Agreement Between Delmarva and ODEC to be effective 6/12/2012.

Filed Date: 5/9/12.

Accession Number: 20120509-5067.

Comments Due: 5 p.m. ET 5/30/12.

Docket Numbers: ER12-1751-000.

Applicants: Renewable Power Strategies, LLC.

Description: Market-Based Rate Tariff to be effective 6/8/2012.

Filed Date: 5/9/12.

Accession Number: 20120509-5079.

Comments Due: 5 p.m. ET 5/30/12.

Docket Numbers: ER12-1752-000.

Applicants: Nevada Power Company.

Description: Rate Schedule No. 127 SDG&E Ancillary Services Agreement to be effective 5/10/2012.

Filed Date: 5/9/12.

Accession Number: 20120509-5090.

Comments Due: 5 p.m. ET 5/30/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 9, 2012.
Nathaniel J. Davis, Sr.,
Deputy Secretary.

[FR Doc. 2012-11805 Filed 5-15-12; 8:45 am]

BILLING CODE 6717-01-P